DEPARTMENT OF HOMELAND SECURITY

Federal Emergency Management Agency

44 CFR Part 67

[Docket No. FEMA-D-7612]

Proposed Flood Elevation Determinations

AGENCY: Federal Emergency Management Agency (FEMA), Emergency Preparedness and Response Directorate, Department of Homeland Security.

ACTION: Proposed rule.

SUMMARY: Technical information or comments are requested on the proposed Base (1% annual chance) Flood Elevations (BFEs) and proposed BFE modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, Emergency Preparedness and Response Directorate, FEMA, 500 C Street, SW., Washington, DC 20472, (202) 646-2903.

SUPPLEMENTARY INFORMATION: FEMA proposes to make determinations of BFEs and modified BFEs for each community listed below, in accordance with section 110 of the Flood Disaster Protection Act of 1973, 42 U.S.C. 4104, and 44 CFR 67.4(a).

These proposed base flood and modified BFEs, together with the floodplain management criteria required by 44 CFR 60.3, are the minimum that are required. They should not be construed to mean that the community must change any existing ordinances that are more stringent in their floodplain management requirements. The community may at any time enact stricter requirements of its own, or pursuant to policies established by other Federal, State or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Mitigation Division Director of the Emergency Preparedness and Response Directorate certifies that this proposed rule is exempt from the requirements of the Regulatory Flexibility Act because proposed or modified BFEs are required by the Flood Disaster Protection Act of 1973, 42 U.S.C. 4105, and are required to establish and maintain community eligibility in the NFIP. As a result, a regulatory flexibility analysis has not been prepared.

Regulatory Classification. This proposed rule is not a significant regulatory action under the criteria of section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of section 2(b)(2) of Executive Order 12778.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding | Location | #Depth in feet above ground *Elevation in feet (NGVD) • Elevation in feet (NAVD): Existing | #Depth in feet above ground *Elevation in feet (NGVD) • Elevation in feet (NAVD): Modified | Communities affected
TENNESSEE
Benton County
Kentucky Lake/Big Sandy River | Along the northwestern County boundary | None | *375 | Town of Big Sandy, County Benton (Unincorporated Areas).
Kentucky Lake/Tennessee River | Approximately 1.5 miles upstream of I-40 | *376 | *375 | Benton County (Unincorporated Areas).
| At the southern County boundary | *376 | *375 |
Burnside Creek | Approximately 0.6 mile upstream of East Lake Street | None | *381 | City of Camden.
| Approximately 500 feet upstream of Stigall Street | None | *393 |
Cane Creek | At the confluence of Charlie Creek | None | *378 | City of Camden.
| Approximately 450 feet upstream of Post Oak Avenue | None | *426 |
Charlie Creek | At the confluence with Cane Creek | None | *378 | City of Camden.
| Approximately 0.2 mile upstream of Mimosa Street | None | *438 |
Cypress Creek | Just upstream of Old Route 70 | None | *378 | City of Camden.
| Approximately 0.8 mile upstream of Old Route 70 | None | *383 |
Benton County (Unincorporated Areas)
Maps available for inspection at the Benton County Courthouse, 1 East Court Square, Room 102, Camden, Tennessee.
Send comments to The Honorable Jimmy Thornton, Benton County Mayor, 1 East Court Square, Room 102, Camden, Tennessee 38302.
Town of Big Sandy:
Maps available at the Big Sandy Town Hall, 65 Front Street, Big Sandy, Tennessee.
Send comments to The Honorable W.L. Waters, Mayor of the Town of Big Sandy, P.O. Box 176, Big Sandy, Tennessee 38221.
City of Camden:
Maps available for inspection at the Camden City Hall, 110 Highway 641 South, Camden, Tennessee.
Send comments to The Honorable Jim Travis, Mayor of the City of Camden, P.O. Box 779, Camden, Tennessee 38320.
TENNESSEE
Hardin County
Tennessee River | At approximately River Mile Mzrker 160 along the Decatur County line | *391 | *388 | City of Crump, City of Saltillo, City of Savannah, Hardin County (Unincorporated Areas).
| Approximately 7.75 miles upstream of Pickwick Dam | *420 | *419
Horse Creek | At the confluence with the Tennessee River | *398 | *395 | Hardin County (Unincorporated Areas).
| Approximately 3,000 feet upstream of Airport Road | *422 | *421 |
City of Crump
Maps available for inspection at the Crump City Hall, 3020 Highway 64, Crump, Tennessee.
Send comments to The Honorable Phyllis James, Mayor of the City of Crump, P.O. Box 88, Crump, Tennessee 38327.
Hardin County (Unincorporated Areas)
Maps available for inspection at the Hardin County Courthouse, 465 Main Street, Savannah, Tennessee.
Send comments to The Honorable Kevin Davis, Hardin County Mayor, 465 Main Street, Savannah, Tennessee 38372.
City of Saltillo
Maps available for inspection at the Saltillo City Hall, 160 Oak Street, Saltillo, Tennessee.
Send comments to The Honorable David Willis, Mayor of the City of Saltillo, P.O. Box 7888, Saltillo, Tennessee 38370.
City of Savannah
Maps available for inspection at the Savannah City Hall, 140 Main Street, Savannah, Tennessee.
Send comments to The Honorable Robert Shutt, Mayor of the City of Savannah, 140 Main Street, Savannah, Tennessee 38372.
WEST VIRGINIA
Cabell County
Fudges Creek | Approximately 460 feet upstream of Interstate 64 | None | •580 | Cabell County (Unincorporated Areas).
| Approximately 1,200 feet north of the intersection of Howells Mill Road and U.S. Route 60 | None | •580 |
Lee Creek | Approximately 50 feet downstream of Interstate 64 | None | •606 | City of Milton.
| Approximately 50 feet upstream of Interstate 64 | None | •608 |
Cabell County (Unincorporated Areas)
Maps available for inspection at the Cabell County Office of Grants, Planning and Permits, Cabell County Courthouse, Room 314, Huntington, West Virginia.
Send comments to Ms. Nancy Cartmill, President of the Cabell County Commission, 750 Fifth Avenue, Suite 300, Huntington, West Virginia 25701.
City of Milton
Maps available for inspection at the City of Milton Annex Building, 1595 U.S. Route 60 East, Milton, West Virginia.
Send comments to The Honorable Betty Sargent, Mayor of the City of Milton, P.O. Box 98, Milton, West Virginia 25541-0098.

(Catalog of Federal Domestic Assistance No. 83.100, “Flood Insurance”)
Dated: January 28, 2005.
David I. Maurstad,
Acting Director, Mitigation Division, Emergency Preparedness and Response Directorate.

[FR Doc. 05-2116 Filed 2-3-05; 8:45 am]

BILLING CODE 9110-12-P